DEPARTMENT OF COMMERCE

National Oceanic and Atmospheric Administration

Agency Information Collection Activities; Submission to the Office of Management and Budget (OMB) for Review and Approval; Comment Request; Alaska Region Amendment 80 Program

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 27, 2022.

ADDRESSES: Interested persons are invited to submit written comments to Adrienne Thomas, NOAA PRA Officer, at NOAA.PRA@noaa.gov. Please reference OMB Control Number 0648-0565 in the subject line of your comments. Do not submit Confidential Business Information or otherwise sensitive or protected information.

FOR FURTHER INFORMATION CONTACT: Requests for additional information or specific questions related to collection activities should be directed to Gabrielle Aberle, Sustainable Fisheries Division, 222 West 7th Ave., Anchorage, AK 99513; or 907-586-7356.

SUPPLEMENTARY INFORMATION:

I. Abstract

The National Marine Fisheries Service (NMFS), Alaska Regional Office, is requesting extension of a currently approved information collection that contains applications for permits and transfers necessary for NMFS to manage the Amendment 80 Program (A80 Program).

Under the Magnuson-Stevens Fishery Conservation and Management Act 16 U.S.C. 1801 et seq., the Secretary of Commerce is responsible for the conservation and management of marine fishery resources within the Exclusive Economic Zone (EEZ) of the United States through NOAA/NMFS. NMFS Alaska Region manages the EEZ off Alaska under the Fishery Management Plan for Groundfish of the Bering Sea and Aleutian Islands Management Area (BSAI FMP) and the Fishery Management Plan for Groundfish of the Gulf of Alaska. The North Pacific Fishery Management Council recommended A80 to the BSAI FMP in June 2006 (72 FR 52668, September 14, 2007). A80 allocates several Bering Sea and Aleutian Islands (BSAI) non-pollock trawl groundfish species among trawl fishery sectors, established a limited access privilege program (LAPP), and facilitated the formation of harvesting cooperatives in the non-American Fisheries Act (non-AFA) trawl catcher/processor sector. More information on the A80 Program is provided on the NMFS Alaska Region website at https://www.fisheries.noaa.gov/alaska/sustainable-fisheries/bering-sea-and-aleutian-islands-amendment-80-groundfish-trawl-fishery.

This collection contains applications used by an individual or business entity to apply for A80 quota share, used by A80 quota shareholders to transfer A80 quota share and to apply for an A80 limited access fishery permit, used by A80 cooperatives to apply for cooperative quota and transfer cooperative quota, used by cooperatives or Community Development Quota groups to exchange community quota for one eligible flatfish species with community quota of a different eligible flatfish species, and used by A80 vessel owners to replace their vessels. This information collection also contains the appeals process for an application that is denied.

The type of information collected includes information on the applicants, transferors, transferees, permits, vessels, quota share, cooperative quota, and flatfish harvest quota.

NMFS uses this information to establish eligibility to receive A80 quota share, cooperative quota, and permits; transfer and assign harvest quota; replace vessels used in the A80 Program; determine A80 species initial total allowable catch assignments; determine which vessels must be tracked for catch accounting; and review ownership and control information to ensure that quota share and cooperative quota use caps are not exceeded.

II. Method of Collection

The information is collected primarily by mail, fax, electronically through eFISH, or delivery. The Flatfish Exchange Application must be submitted through eFISH on the NMFS Alaska Region website at https://alaskafisheries.noaa.gov/webapps/efish/login. The Application for Inter-cooperative Transfer of Amendment 80 CQ is submitted to NMFS online through eFISH with the option to mail, fax, or deliver the application. The applications are available as fillable PDFs on the NMFS Alaska Region website at https://alaskafisheries.noaa.gov/fisheries-applications.

III. Data

OMB Control Number: 0648-0565.

Form Number(s): None.

Type of Review: Regular submission (extension of a current information collection).

Affected Public: Individuals or households; Business or other for-profit organizations.

Estimated Number of Respondents: 25.

Estimated Time per Response: Application for A80 Quota Share: 2 hours; Application for A80 Limited Access Fishery Permit: 2 hours; Application for A80 Cooperative Quota Permit: 2 hours; Application to Transfer A80 Quota Share: 2 hours; Application for Inter-cooperative Transfer of A80 Cooperative Quota: 2 hours; Application for A80 Vessel Replacement: 2 hours; A80 appeals letter: 4 hours; Flatfish Exchange Application: 5 minutes.

Estimated Total Annual Burden Hours: 20 hours.

Estimated Total Annual Cost to Public: $525 in recordkeeping and reporting costs.

Respondent's Obligation: Required to Obtain or Retain Benefits; Mandatory.

Legal Authority: Magnuson-Stevens Fishery Conservation and Management Act, 16 U.S.C. 1801 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-23389 Filed 10-26-22; 8:45 am]

BILLING CODE 3510-22-P